DEPARTMENT OF HEALTH AND HUMAN SERVICES

Centers for Disease Control and Prevention (CDC)

Breast and Cervical Cancer Early Detection Federal Advisory Committee

Correction: This notice was published in the Federal Register on November 5, 2012, Volume 77, Number 214, Page 66469. A teleconference line has been added for public participation. To participate, please dial toll-free 1 (866) 756-7359 and enter passcode 8958302 for access. Participation by teleconference is limited by the number of ports available.

Contact Person for More Information: Alicia Ortner, Committee Specialist, CDC, 4770 Buford Hwy, M/S K-57, Atlanta, Georgia 30341. Telephone (770) 488-4880. Email: aortner@cdc.gov. The Director, Management Analysis and Services Office, has been delegated the authority to sign Federal Register notices pertaining to announcements of meetings and other committee management activities, for both the Centers for Disease Control and Prevention and the Agency for Toxic Substances and Disease Registry.

Dated: November 21, 2012.
Elaine L. Baker,
Director, Management Analysis and Services Office, Centers for Disease Control and Prevention.

[FR Doc. 2012-28858 Filed 11-28-12; 8:45 am]

BILLING CODE 4163-18-P